FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 25, 2012.

A. Federal Reserve Bank of Atlanta (Chapelle Davis, Assistant Vice President) 1000 Peachtree Street NE., Atlanta, Georgia 30309:

1. John Hinton Waters, Madalyn Kathlene Waters, Michael Thomas Waters, John Andrew Waters, Michael Jason Waters, Brittaney Laine McConkey, Charles Hilton Richards, Jr., Ted Rembert Townsend, all of Chatsworth, Georgia, and Jodi Waters Matter, Marietta, Georgia; to collectively retain voting shares of First Chatsworth Bankshares, Inc., and thereby indirectly retain voting shares of First National Community Bank, both in Chatsworth, Georgia.

2. The Robert Roschman Revocable Trust, Robert Roschman, trustee; The Lorrie Lei Roschman Revocable Trust, Lorrie Roschman, trustee; The Revocable Trust Created by Jeffrey S. Roschman, Jeffrey Roschman, trustee; CT Foundation, Betty Roschman, Roschman Restaurant Administration, and Kerry Roschman, all of Fort Lauderdale, Florida; to collectively retain voting shares of Giant Holdings, Inc., and thereby indirectly retain voting shares of Landmark Bank, N.A., both in Fort Lauderdale, Florida.

B. Federal Reserve Bank of Minneapolis (Jacqueline G. King, Community Affairs Officer) 90 Hennepin Avenue, Minneapolis, Minnesota 55480-0291:

1. Todd J. Zaun, Sartell, Minnesota; to retain and acquire, and Steven M. Zaun, Marina Del Ray, California, to acquire, voting shares of Eden Valley Bancshares, and thereby indirectly acquire control State Bank in Eden Valley, both in Eden Valley, Minnesota.

C. Federal Reserve Bank of Kansas City (Dennis Denney, Assistant Vice President) 1 Memorial Drive, Kansas City, Missouri 64198-0001:

1. Kevin D. Postier and J. B. Suddarth, both of York, Nebraska; to acquire control of Henderson State Company, and thereby indirectly acquire control of Henderson State Bank, both in Henderson, Nebraska.

D. Federal Reserve Bank of San Francisco (Kenneth Binning, Vice President, Applications and Enforcement) 101 Market Street, San Francisco, California 94105-1579:

1. Harlan D. Douglass, Maxine D. Douglass, and Harlan D. Douglass, Inc., all of Spokane, Washington, to retain voting shares of Northwest Bancorporation, Inc. and thereby indirectly retain voting shares of Inland Northwest Bank, both in Spokane, Washington.

Board of Governors of the Federal Reserve System, July 5, 2012.
Robert deV. Frierson,
Deputy Secretary of the Board.

[FR Doc. 2012-16820 Filed 7-9-12; 8:45 am]

BILLING CODE 6210-01-P